DEPARTMENT OF TRANSPORTATION

Federal Aviation Administration

14 CFR Part 71

[Docket FAA No. FAA-2012-1092; Airspace Docket No. 12-AWP-6]

Amendment of Class D and Class E Airspace; Hawthorne, CA

AGENCY: Federal Aviation Administration (FAA), DOT.

ACTION: Final rule; technical amendment.

SUMMARY: This action amends the airspace description for Class D and Class E airspace at Jack Northrop Field/Hawthorne Municipal Airport, Hawthorne, CA. The FAA is taking this action in response to a request from the Southern California Terminal Radar Approach Control to clarify the legal description of the controlled airspace. Some exclusionary language was omitted and the Class E extension was recorded as 1.5 nautical miles and should have been .5 nautical miles. This action enhances the safety and management of aircraft operations for the Hawthorne, CA, area.

DATES: Effective date, 0901 UTC., November 23, 2012. The Director of the Federal Register approves this incorporation by reference action under 1 CFR Part 51, subject to the annual revision of FAA Order 7400.9 and publication of conforming amendments.

FOR FURTHER INFORMATION CONTACT: Richard Roberts, Federal Aviation Administration, Operations Support Group, Western Service Center, 1601 Lind Avenue SW., Renton, WA 98057; telephone (425) 203-4517.

SUPPLEMENTARY INFORMATION:

History

The FAA received a request from the Southern California Radar Approach Control to clarify the legal description of the existing Class D and E airspace at Jack Northrop Field/Hawthorne Municipal Airport, Hawthorne, CA. The current legal description published in the Federal Register on February 13, 2012 (77 FR 7525) omitted that portion of the airspace for Torrance Municipal Airport, CA, and established the Class E extension at 1.5-nautical miles instead of .5 nautical miles. This action is in response to that request.

Class D and E airspace designations are published in paragraphs 5000 and 6004, respectively, of FAA Order 7400.9W dated August 8, 2012, and effective September 15, 2012, which is incorporated by reference in 14 CFR 71.1. The Class D and Class E airspace designations listed in this document will be published subsequently in that Order.

The Rule

This action amends Title 14 Code of Federal Regulations (14 CFR) Part 71 by amending the legal description of the Class D surface airspace at Jack Northrop Field/Hawthorne Municipal Airport, Hawthorne, CA, to include the exclusion of that portion of the airspace for Torrance, CA. The Class E airspace area designated as an extension to Class D, is corrected from 1.5 miles to .5 miles south of the 096° bearing of Jack Northrop Field/Hawthorne Municipal Airport. The legal description has been clarified to avoid confusion on the part of pilots flying into Jack Northrop Field/Hawthorne Municipal Airport, and coincides with the FAAs aeronautical database. This action is necessary for the safety and management of IFR operations. This is an administrative change and does not affect the altitudes or operating requirements of the airspace, therefore, notice and public procedures under 5 U.S.C.553(b) are unnecessary.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace for the Hawthorne, CA, area.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

Lists of Subjects in 14 CFR Part 71

Airspace, Incorporation by reference, Navigation (Air).

Technical Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9W, Airspace Designations and Reporting Points, dated August 8, 2012, and effective September 15, 2012, is amended as follows:

Paragraph 5000 Class D airspace.

* * * * *

AWP CA D Hawthorne, CA [Amended]

Jack Northrop Field/Hawthorne Municipal Airport, CA

(Lat. 33°55′22″ N., long. 118°20′07″ W.)

That airspace extending upward from the surface to and including 2,500 feet MSL within 2.6-mile radius of the Jack Northrop Field/Hawthorne Municipal Airport, and that airspace 1.5 miles north and 2 miles south of the 229° bearing of the airport extending from the 2.6-mile radius to 3.8 miles southwest, and that airspace 2 miles north and 1.5 miles south of the 096° bearing of the airport extending from the 2.6-mile radius to 3.9 miles east of the airport, excluding the Los Angeles Airport Class D and that portion within the Torrance CA, Class D airspace area. This Class D airspace is effective during the specific dates and times established in advance by a Notice to Airmen. The effective date and time will thereafter be continuously published in the Airport/Facility Directory.

Paragraph 6004 Class E airspace areas designated as an extension to Class D or Class E surface area.

* * * * *

AWP CA E4 Hawthorne, CA [Amended]

Jack Northrop Field/Hawthorne Municipal Airport, CA

(Lat. 33°55′22″ N., long. 118°20′07″ W.)

That airspace extending upward from the surface within 2 miles north and .5 miles south of the 096° bearing of Jack Northrop Field/Hawthorne Municipal Airport, beginning 3.9 miles east of the airport extending to 6.3 miles east of the airport. This Class E airspace area is effective during the specific dates and times established in advance by a Notice to Airmen. The effective date and time will thereafter be continuously published in the Airport/Facility Directory.

Issued in Seattle, Washington, on October 9, 2012.
John Warner,
Manager, Operations Support Group, Western Service Center.

[FR Doc. 2012-25925 Filed 10-23-12; 8:45 am]

BILLING CODE 4910-13-P